FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. Seven new members will be selected for three-year terms that will begin in January 2001. The Board expects to announce the selection of new members by year-end 2000.

DATES: Nominations should be received by August 1, 2000.

ADDRESSES: Nominations should be submitted in writing and mailed (not sent by facsimile) to Sandra F. Braunstein, Assistant Director, Division of Consumer and Community Affairs, Board of Governors of the Federal Reserve System, Washington, D.C. 20551.

FOR FURTHER INFORMATION CONTACT: Ann Bistay, Secretary to the Council, Division of Consumer and Community Affairs, (202) 452-6470. For Telecommunications Device for the Deaf (TDD) users only: Diane Jenkins, (202) 452-3544, Board of Governors of the Federal Reserve System, Washington, D.C. 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 USC 1691(b)). Under the Rules of Organization and Procedure of the Consumer Advisory Council (12 CFR 267.3), members serve three-year terms that are staggered to provide the Council with continuity.

New members will be selected for terms beginning January 1, 2001, to replace members whose terms expire in December 2000; the Board expects to announce its appointment of new members by year-end. Nomination letters should include information about past and present positions held by the nominee; a description of special knowledge, interests or experience related to community reinvestment, consumer protection regulations, consumer credit, or other consumer financial services; and the full name, title, organization name, organization description, current address, telephone and fax numbers for both the nominee and the nominator. Individuals may nominate themselves.

The Board is interested in candidates who have familiarity with consumer financial services, community reinvestment, consumer protection regulations, and who are willing to express their viewpoints. Candidates do not have to be experts on all levels of consumer financial services or community reinvestment, but they should possess some basic knowledge of the area. They must be able and willing to make the necessary time commitment to participate in conference calls, and prepare for and attend meetings three times a year (usually for two days, including committee meetings), held at the Board's offices in Washington, D.C. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2000, are:

Walter Boyer, Chairman, The Diamond Group, Dallas, Texas

Jeremy Eisler, Director of Litigation, South Mississippi Legal Services Corp., Biloxi, Mississippi

Robert Elliott, Retired Vice Chairman, Household International, Prospect Heights, Illinois

Dwight Golann, Professor of Law, Suffolk University Law School, Boston, Massachusetts

Karla Irvine, Executive Director, Housing Opportunities Made Equal of Greater Cincinnati, Inc., Cincinnati, Ohio

Gwenn Kyzer, Vice President, Experian, Inc., Allen, Texas

John Lamb, Senior Staff Counsel, Department of Consumer Affairs, Sacramento, California

Martha Miller, President, Choice Federal Credit Union, Greensboro, North Carolina

Daniel Morton, Vice President and Senior Counsel, The Huntington National Bank, Columbus, Ohio

David Ramp, Assistant Attorney General, 1400 NCL Tower, St. Paul, Minnesota

Robert Schwemm, Professor of Law, University of Kentucky, Lexington, Kentucky

David Shirk, Senior Manager, Framework, Inc., Tarrytown, New York

Council members whose terms continue through 2001 and 2002 are:

Lauren Anderson, Executive Director, Neighborhood Housing Services of New Orleans, Inc., New Orleans, Louisiana

Malcolm Bush, President, The Woodstock Institute, Chicago, Illinois

Dorothy Broadman, Senior Vice President, Cal Fed Bank, San Francisco, California

Teresa A. Bryce, General Counsel, Bank of America Mortgage, Charlotte, North Carolina

Robert Cheadle, Chief Executive Officer, Mortgage Express, Ada, Oklahoma

Mary Ellen Domeier, President, State Bank & Trust Company of New Ulm, New Ulm, Minnesota

Lester Wm. Firstenberger, Senior Vice President and General Counsel, Mortgage Lenders Network USA, Inc., Middletown, Connecticut

John Gamboa, Executive Director, The Greenlining Institute, San Francisco, California

Vincent Giblin, Chief Executive Officer, International Union of Operating Engineers, West Caldwell, New Jersey

Willie Jones, Deputy Director, The Community Builders, Inc., Boston, Masschusetts

Dean Keyes, Senior Vice President, Mercantile Bancorporation, Inc., St. Louis, Missouri

Anne Li, Executive Director, New Jersey Community Loan Fund, Trenton, New Jersey

Jeremy Nowak, Chief Executive Officer, The Reinvestment Fund, Philadelphia, Pennsylvania

Marta Ramos, Vice President & CRA Officer, Banco Popular De Puerto Rico, San Juan, Puerto Rico

Russell Schrader, Senior Vice President and Assistant General Counsel, Visa U.S.A., San Francisco, California

Gary Washington, Senior Vice President, ABN AMRO, Chicago, Illinois

Robert Wynn, II, Financial Education Officer, Department of Financial Institutions, Madison, Wisconsin

Board of Governors of the Federal Reserve System, May 24, 2000.
Jennifer J. Johnson,
Secretary of the Board.

[FR Doc. 00-13434 Filed 5-26-00; 8:45 am]

BILLING CODE 6210-01-P